DEPARTMENT OF HOMELAND SECURITY

[Docket No. DHS-2008-0117]

Homeland Security Science and Technology Advisory Committee

AGENCY: Science and Technology Directorate, DHS.

ACTION: Committee Management; Notice of Closed Federal Advisory Committee Meeting.

SUMMARY: The Homeland Security Science and Technology Advisory Committee will meet October 20-22, 2008, at the Booz Allen Hamilton office in Norfolk, VA. The meeting will be closed to the public beginning October 20, 2008 at 12 p.m.

DATES: The Homeland Security Science and Technology Advisory Committee will meet October 20, 2008, from 12 p.m. to 5:45 p.m., October 21, 2008, from 9 a.m. to 4:30 p.m. and on October 22, 2008, from 9 a.m. to 5:30 p.m.

ADDRESSES: The meeting will be held at the office of Booz Allen Hamilton, Twin Oak II, 5800 Lake Wright Drive, Suite 400, Norfolk, VA 23502. Requests to have written material distributed to each member of the committee prior to the meeting should reach the contact person at the address below by Friday, October 15, 2008. Send written material to Ms. Deborah Russell, Science and Technology Directorate, Department of Homeland Security, 245 Murray Lane, Bldg. 410, Washington, DC 20528. Comments must be identified by DHS-2008-0117 and may be submitted by one of the following methods:

• Federal eRulemaking Portal: http://www.regulations.gov. Follow the instructions for submitting comments.

• E-mail: HSSTAC@dhs.gov. Include the docket number in the subject line of the message.

• Fax: 202-254-6173.

• Mail: Ms. Deborah Russell, Science and Technology Directorate, Department of Homeland Security, 245 Murray Lane, Bldg. 410, Washington, DC 20528.

Instructions: All submissions received must include the words “Department of Homeland Security” and the docket number for this action. Comments received will be posted without alteration at http://www.regulations.gov, including any personal information provided.

Docket: For access to the docket to read background documents or comments received by the Homeland Security Science and Technology Advisory Committee, go to http://www.regulations.gov.

FOR FURTHER INFORMATION CONTACT: Ms. Deborah Russell, Science and Technology Directorate, Department of Homeland Security, 245 Murray Lane, Bldg. 410, Washington, DC 20528, 202-254-5739.

SUPPLEMENTARY INFORMATION: Notice of this meeting is given under the Federal Advisory Committee Act, 5 U.S.C. App. (Pub. L. 92-463).

The committee will meet for the purpose of organizational and preliminary technical discussions on the next cycle of HSSTAC studies including classified topics.

Basis for Closure: In accordance with Section 10(d) of the Federal Advisory Committee Act, it has been determined that the Science and Technology Advisory Committee meeting concerns sensitive Homeland Security information and classified matters within the meaning of 5 U.S.C. 552b(c)(1) and (c)(9)(B) which, if prematurely disclosed, would significantly jeopardize national security and frustrate implementation of proposed agency actions.

Dated: September 30, 2008.
Jay M. Cohen,
Under Secretary for Science and Technology.

[FR Doc. E8-23789 Filed 10-6-08; 8:45 am]

BILLING CODE 4410-10-P